DEPARTMENT OF ENERGY

Federal Energy Regulatory Commission

[Project No. 2216-066]

New York Power Authority; Notice of Application Tendered for Filing With the Commission, Notice of Offer of Settlement, and Establishing Procedural Schedule for Relicensing and a Deadline for Submission of Final Amendments

August 26, 2005.

Take notice that the following hydroelectric application and offer of settlement have been filed with the Commission and are available for public inspection.

a. Type of Application: New Major License.

b. Project No.: P-2216-066.

c. Date Filed: August 18, 2005 for application; August 19, 2005 for offer of settlement.

d. Applicant: New York Power Authority.

e. Name of Project: Niagara Power Project, which consists of the Lewiston Pump Generating Plant and the Robert Moses Niagara Power Plant.

f. Location: The Niagara Power Project is located on the Niagara River in the City of Niagara Falls and the Towns of Niagara and Lewiston, in Niagara County, New York.

g. Filed Pursuant to: Federal Power Act 16 U.S.C. 791(a)-825(r).

h. Applicant Contact: Frederick E. Chase, Executive Director of Hydropower Relicensing, Power Authority of the State of New York, 30 South Pearl Street, Albany, NY 12207-3425, (518) 433-6738 or chase.f@nypa.gov.

i. FERC Contact: Steve Kartalia, (202) 502-6131 or stephen.kartalia@ferc.gov.

j. Cooperating agencies: We are asking Federal, state, local, and tribal agencies with jurisdiction and/or special expertise with respect to environmental issues to cooperate with us in the preparation of the environmental document. Agencies who would like to request cooperating status should follow the instructions for filing such requests described in item k below. Cooperating agencies should note the Commission's policy that agencies that cooperate in the preparation of the environmental document cannot also intervene. See, 94 FERC ¶ 61,076 (2001).

k. Deadline to request cooperating agency status: September 19, 2005.

All documents (original and eight copies) should be filed with: Magalie R. Salas, Secretary, Federal Energy Regulatory Commission, 888 First Street, NE., Washington, DC 20426.

Requests for cooperating agency status may be filed electronically via the Internet in lieu of paper. The Commission strongly encourages electronic filings. See 18 CFR 385.2001(a)(1)(iii) and the instructions on the Commission's Web site (http://www.ferc.gov) under the “e-Filing” link.

l. This application has not been accepted for filing. We are not soliciting motions to intervene, protests, or final terms and conditions at this time. However, a number of entities filed motion to intervene prior to the application being filed in this case. Although these motions must be rejected because there was no proceeding in which to intervene when they were filed, once an application has been filed, the Commission does accept motions to intervene filed before public notice of the application being accepted is issued (see 75 FERC ¶ 61,318).

m. Description of Project: The existing project has a conventional development and a pumped storage development for a total current installed capacity of 2,538 megawatts consisting of: (a) Two 700-foot-long intake structures located on the upper Niagara River about 2.6 miles upstream from the American Falls; (b) two 4.3-mile-long, 46-foot-wide by 66.5-foot-high concrete underground water supply conduits; (c) a forebay; (d) the 974-foot-long by 240-foot-wide by 160-feet-high Lewiston Pump-Generating Plant; (e) the 1,900-acre Lewiston Reservoir at a maximum water surface elevation of 658 feet United States Lake Survey Datum; (f) the Robert Moses Niagara power plant, including an 1,100-foot-long by 190-foot-wide by 100-foot-high intake structure; (g) a switch yard; and (h) appurtenant facilities.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

o. Procedural schedule and final amendments: At this time we anticipate preparing a draft environmental impact statement (DEIS). Recipients will have 45 days to provide the Commission with any written comments on the DEIS. All comments filed with the Commission will be considered in the final environmental impact statement (FEIS). The application will be processed according to the following schedule. Revisions to the schedule will be made as appropriate.

Notice of Acceptance of Application: October 2005.

Notice of Application Ready for Environmental Analysis: December 2005.

Notice of the Availability of the DEIS: May 2006.

Notice of the Availability of the FEIS: November 2006.

Ready for Commission's decision on the application: February 2007.

Final amendments to the application must be filed with the Commission no later than 30 days from the issuance date of the notice of ready for environmental analysis.

Magalie R. Salas,
Secretary.

[FR Doc. E5-4818 Filed 9-1-05; 8:45 am]

BILLING CODE 6717-01-P